DEPARTMENT OF COMMERCE

International Trade Administration

[A-570-868]

Folding Metal Tables and Chairs from the People's Republic of China: Final Results of Antidumping Duty Administrative Review

AGENCY: Import Administration, International Trade Administration, Department of Commerce.

SUMMARY: The Department of Commerce (“the Department”) published its preliminary results of administrative review of the antidumping duty order on folding metal tables and chairs (“FMTCs”) from the People's Republic of China (“PRC”) on July 11, 2007. The period of review (“POR”) is June 1, 2005, through May 31, 2006. We invited interested parties to comment on our preliminary results. Based on our analysis of the comments received, we have made changes to our margin calculations. Therefore, the final results differ from the preliminary results. The final dumping margins for this review are listed in the “Final Results of Review” section below.

EFFECTIVE DATE: December 17, 2007.

FOR FURTHER INFORMATION CONTACT: Laurel LaCivita or Charles Riggle, AD/CVD Operations, Office 8, Import Administration, International Trade Administration, U.S. Department of Commerce, 14th Street and Constitution Avenue, NW, Washington, DC 20230; telephone (202) 482-4243 or (202) 482-0650, respectively.

Background

On July 11, 2007, the Department published its preliminary results.¹ On July 31, 2007, Meco Corporation (“Meco”), the petitioner in the underlying investigation, provided additional comments on the appropriate surrogate values to use as a means of valuing the factors of production, including financial statements from Infiniti Modules Pvt. Ltd. (“Infiniti”) and Agew Steel Manufactures Private Limited (“Agew”), Indian producers of merchandise that is identical or comparable to the subject merchandise. On August 3, 2007, Meco requested an extension of the briefing schedule, and on August 7, 2007, the Department denied this request. On August 10, 2007, the Department received a case brief that included a request for a hearing from Meco. On August 13, 2007, the Department received a case brief from Feili Group (Fujian) Co., Ltd. and Feili Furniture Development Limited Quanzhou City (collectively “Feili”). On August 13, 2007, Meco requested an extension to submit its rebuttal brief and on the same day, the Department granted to all parties a seven-day extension to submit rebuttal briefs. On August 22, 2007, Meco, New-Tec Integration Co., Ltd. (“New-Tec”), and Feili submitted rebuttal briefs. On September 27, 2007, Meco withdrew its request for a hearing. On November 6, 2007, the Department extended the time period for completion of the final results until December 7, 2007.²

¹ See Folding Metal Tables and Chairs from the People's Republic of China: Preliminary Results of Antidumping Duty Administrative Review, 72 FR 37703 (July 11, 2007) (“Preliminary Results”).

² See Folding Metal Tables and Chairs from the People's Republic of China: Notice of Extension of Time Limit for the Final Results of the Antidumping Duty Administrative Review, 72 FR 62628 (November 6, 2007).

We have conducted this administrative review in accordance with section 751 of the Tariff Act of 1930, as amended (“the Act”), and 19 CFR 351.213.

Scope of Order

The products covered by this order consist of assembled and unassembled folding tables and folding chairs made primarily or exclusively from steel or other metal, as described below:

1) Assembled and unassembled folding tables made primarily or exclusively from steel or other metal (folding metal tables). Folding metal tables include square, round, rectangular, and any other shapes with legs affixed with rivets, welds, or any other type of fastener, and which are made most commonly, but not exclusively, with a hardboard top covered with vinyl or fabric. Folding metal tables have legs that mechanically fold independently of one another, and not as a set. The subject merchandise is commonly, but not exclusively, packed singly, in multiple packs of the same item, or in five piece sets consisting of four chairs and one table. Specifically excluded from the scope of the order regarding folding metal tables are the following:

a. Lawn furniture;

b. Trays commonly referred to as “TV trays;”

c. Side tables;

d. Child-sized tables;

e. Portable counter sets consisting of rectangular tables 36” high and matching stools; and,

f. Banquet tables. A banquet table is a rectangular table with a plastic or laminated wood table top approximately 28” to 36” wide by 48” to 96” long and with a set of folding legs at each end of the table. One set of legs is composed of two individual legs that are affixed together by one or more cross-braces using welds or fastening hardware. In contrast, folding metal tables have legs that mechanically fold independently of one another, and not as a set.

2) Assembled and unassembled folding chairs made primarily or exclusively from steel or other metal (folding metal chairs). Folding metal chairs include chairs with one or more cross-braces, regardless of shape or size, affixed to the front and/or rear legs with rivets, welds or any other type of fastener. Folding metal chairs include: those that are made solely of steel or other metal; those that have a back pad, a seat pad, or both a back pad and a seat pad; and those that have seats or backs made of plastic or other materials. The subject merchandise is commonly, but not exclusively, packed singly, in multiple packs of the same item, or in five piece sets consisting of four chairs and one table. Specifically excluded from the scope of the order regarding folding metal chairs are the following:

a. Folding metal chairs with a wooden back or seat, or both;

b. Lawn furniture;

c. Stools;

d. Chairs with arms; and

e. Child-sized chairs.

The subject merchandise is currently classifiable under subheadings 9401.71.0010, 9401.71.0030, 9401.79.0045, 9401.79.0050, 9403.20.015, 9403.20.0030, 9403.70.8010, 9403.70.8020, and 9403.70.8030 of the Harmonized Tariff Schedule of the United States (“HTSUS”). Although the HTSUS subheadings are provided for convenience and customs purposes, the Department's written description of the merchandise is dispositive.

Based on a request by RPA International Pty., Ltd. and RPS, LLC, the Department ruled on January 13, 2003, that poly-fold metal folding chairs are within the scope of the order.

On May 5, 2003, in response to a request by Staples, the Office Superstore Inc. (“Staples”), the Department issued a scope ruling that the chair component of Staples' “Complete Office-To-Go,” a folding chair with a tubular steel frame and a seat and back of plastic, with measurements of: height: 32.5 inches; width: 18.5 inches; and depth: 21.5 inches, is covered by the scope of the order.

On September 7, 2004, the Department found that table styles 4600 and 4606 produced by Lifetime Plastic Products Ltd. are within the scope of the order.

On July 13, 2005, the Department issued a scope ruling determining that “butterfly” chairs are excluded from the scope of the antidumping duty order. Butterfly chairs are described as consisting of a collapsible metal rod frame and a cover, such that when the chair frame is spread open, the pockets of the cover are slipped over the upper ends of the frame and the cover provides both the seating surface and back of the chair. The frame consists of eight s-shaped pieces (with the ends offset at almost a 90-degree angle) made from metal rods that are connected by hinges. In order to collapse the frame, the chair cover must be removed. The frame is collapsed by moving the four legs inward until they meet in the center, similar to the folding mechanism of a pocket umbrella.

On July 13, 2005, the Department issued a scope ruling determining that folding metal chairs, with wooden seats that have been padded with foam and covered with fabric or polyvinyl chloride and attached to the tubular steel seat frame with screws, are within the scope of the antidumping duty order.

On May 1, 2006, the Department issued a scope ruling determining that “moon chairs” are not included within the scope of the antidumping duty order. Moon chairs are described as containing circular, fabric-padded, concave cushions that envelop the user at approximately a 105-degree reclining angle. The fabric cushion is ringed and supported by two curved 16-mm steel tubes. The cushion is attached to this ring by nylon fabric. The cushion is supported by a 16-mm steel tube four-sided rectangular cross-brace mechanism that constitutes the moon chair's legs. This mechanism supports and attaches to the encircling tubing and enables the moon chair to be folded. To fold the chair, the user pulls on a fabric handle in the center of the seat cushion of the chair.

On October 4, 2007, the Department issued a scope ruling determining that International E-Z Up Inc.'s (“E-Z Up”) Instant Work Bench is not included within the scope of the antidumping duty order because its legs and weight do not match the description of the folding metal tables in the scope of the FMTCs order or Certain Folding Metal Tables and Chairs from China; USITC Pub. 3515 at I-3, 731-TA-932 (Final), (June 2002) (“ITC Final Report”). E-Z Up describes the Instant Work Bench as a personal project center that is permanently mounted on a wall. E-Z Up states that the physical characteristics of the Instant Work Bench include a plastic table top measuring 60.25 inches in width and 24.5 inches in depth, four steel legs with two legs attached to a wall, a metallic coated peg board extending vertically from the intersection of the back legs and the table top, and two sliding reinforced steel drawers located below the plastic bench. E-Z Up adds that the back two legs are connected to each other by a steel frame that consists of two cross-bars and five vertical bars. E-Z Up also states that the Instant Work Bench weighs 70.7 pounds, of which 54.7 percent is steel, and measures 60 inches in height from the top of the peg board to the floor.³

³ See “Final Scope Ruling of the Antidumping Duty Order on Folding Metal Tables and Chairs from the People's Republic of China (A-570-868); E-Z Up's Instant Work Bench” (October 4, 2007).

Analysis of Comments Received

All issues raised in the post-preliminary comments by parties in this review are addressed in the memorandum from Stephen J. Claeys, Deputy Assistant Secretary for Import Administration, to David M. Spooner, Assistant Secretary for Import Administration, “Issues and Decision Memorandum for the 2005-2006 Administrative Review of Folding Metal Tables and Chairs from the People's Republic of China” (December 7, 2007) (“Issues and Decision Memorandum”), which is hereby adopted by this notice. A list of the issues that parties raised and to which we responded in the Issues and Decision Memorandum is attached to this notice as an appendix. The Issues and Decision Memorandum is a public document and is on file in the Central Records Unit (“CRU”) in room B-099 in the main Department building, and is also accessible on the Web at http://ia.ita.doc.gov/frn. The paper copy and electronic version of the memorandum are identical in content.

Changes Since the Preliminary Results

Based on our analysis of comments received, we have made changes in the margin calculations for Feili and New-Tec.⁴

⁴ See Issues and Decision Memorandum, at Comments 1-16.

b. Feili and New-Tec

• We calculated the surrogate financial ratios using financial statements of two companies, Godrej & Boyce, Manufacturing Co. Ltd. (“Godrej”) and Infiniti.⁵

⁵ See Comment 1 of the Issues and Decision Memorandum and the Memorandum to Wendy J. Frankel, Director, AD/CVD Operations, Office 8, “Final Results of the 2005-2006 Administrative Review of Folding Metal Tables and Chairs from the People's Republic of China: Surrogate Value Memorandum,” (December 7, 2007) (“Final Surrogate Value Memorandum”), at 1, and Attachment XIII.

Feili

• We revised the calculation of the market-economy purchase price for rivets to exclude the total quantity and value of powder coating from the calculations.⁶

⁶ See Comment 7 of the Issues and Decision Memorandum and Memorandum to the File “Analysis for the Final Results of the 2005-2006 Administrative Review of Folding Metal Tables and Chairs from the People's Republic of China: Feili Furniture Development Limited Quanzhou City, Feili Furniture Development Co., Ltd., Feili Group (Fujian) Co., Ltd., Feili (Fujian) Co., Ltd. (collectively, “Feili”)” (December 7, 2007) (“Feili Final Analysis Memorandum”), at 2, and Attachments I and II.

• We revised the calculation of normal value (“NV”) to eliminate fiberboard as a packing material.⁷

⁷ See Comment 8 of the Issues and Decision Memorandum, and Feili Final Analysis Memorandum, at 2, and Attachments I and IV.

• We revised the calculation of NV to exclude packing labor from the cost of manufacturing and include it in the calculation of packing.⁸

⁸ See Comment 9 of the Issues and Decision Memorandum, and Feili Final Analysis Memorandum, at 3, and Attachments III and IV.

• We revised the sample interspersion check to exclude from the margin analysis program only those transactions that had not been previously made in commercial quantities to the same customer.⁹

⁹ See Comment 11 of the Issues and Decision Memorandum, and Feili Final Analysis Memorandum, at 3, and Attachments IV and V.

Final Results of Review

We determine that the following dumping margins exist for the period June 1, 2005, through May 31, 2006:

Exporter/Manufacturer | Weighted-Average Margin Percentage
Feili* | 0.02
New-Tec | 1.50
*This rate is de minimis.

Assessment Rates

The Department intends to issue assessment instructions to U.S. Customs and Border Protection 15 days after the date of publication of these final results of administrative review.

Cash-Deposit Requirements

The following cash-deposit requirements will be effective upon publication of these final results of this administrative review for all shipments of the subject merchandise entered, or withdrawn from warehouse, for consumption on or after the publication date, as provided for by section 751(a)(2)(C) of the Tariff Act of 1930, as amended (“the Act”): (1) for subject merchandise exported by Feili, the final weighted-average margin is below de minimis; therefore, no cash deposit of estimated antidumping duties will be required. However, for subject merchandise exported by New-Tec, the cash-deposit rate will be that established in the final results of review; (2) for previously reviewed or investigated exporters not listed above that have separate rates, the cash-deposit rate will continue to be the exporter-specific rate published for the most recent period; (3) for all PRC exporters of subject merchandise, which have not been found to be entitled to a separate rate, the cash-deposit rate will be the PRC-wide rate of 70.71 percent; and (4) for all non-PRC exporters of subject merchandise that have not received their own rate, the cash-deposit rate will be the rate applicable to the PRC exporter that supplied that non-PRC exporter. These deposit requirements shall remain in effect until further notice.

Notification to Interested Parties

This notice serves as a final reminder to importers of their responsibility under 19 CFR 351.402(f)(2) to file a certificate regarding the reimbursement of antidumping duties prior to liquidation of the relevant entries during the review period. Pursuant to 19 CFR 351.402(f)(3), failure to comply with this requirement could result in the Department's presumption that reimbursement of antidumping duties occurred and the subsequent assessment of doubled antidumping duties.

This notice also serves as a reminder to parties subject to administrative protective order (“APO”) of their responsibility concerning the disposition of proprietary information disclosed under APO as explained in the administrative protective order itself. Timely written notification of the return/destruction of APO materials or conversion to judicial protective order is hereby requested. Failure to comply with the regulations and the terms of an APO is a sanctionable violation.

This notice of the final results of this administrative review is issued and published in accordance with sections 751(a)(1) and 777(i) of the Act.

Dated: December 7, 2007.
David M. Spooner,
Assistant Secretary for Import Administration.

Appendix

List of Comments and Issues in the Issues and Decision Memorandum

Comment 1: Surrogate Financial Statements

Comment 2: Potential Calculation Adjustments to Infiniti's Financial Statements

Comment 3: Allocation of Direct Labor Hours for Feili

Comment 4: Allocation of Electricity for Feili

Comment 5: Suspension of Liquidation of Tables with Legs Connected by a Cross-Bar

Comment 6: Revocation of the Order

Comment 7: Market-Economy Price for Rivets

Comment 8: Fiberboard Consumption

Comment 9: Packing Labor

Comment 10: Zero-Priced Transactions

Comment 11: Zero-Priced Transactions not Previously Sold in Commercial Quantities

Comment 12: Shipping Costs for Zero-Priced Transactions

Comment 13: Negative Values for Importer-Specific Assessment Rates

Comment 14: The Treatment of Origin Receiving Charges (“ORC”) and automated-manifest-system charges (“AMS”)

Comment 15: Adjustments for Materials That Were Provided Free-of-Charge

Comment 16: Offsetting Dumped Sales with “Non-Dumped” Sales (“Zeroing”)

[FR Doc. E7-24366 Filed 12-14-07; 8:45 am]

BILLING CODE 3510-DS-S